DEPARTMENT OF TRANSPORTATION

Federal Highway Administration

[Docket No. FHWA-2015-0013]

Agency Information Collection Activities; Notice of Request for Approval of a New Information Collection

AGENCY: Federal Highway Administration (FHWA), DOT.

ACTION: Notice of Request for Approval of a New Information Collection.

SUMMARY: The FHWA invites public comments about our intention to request the Office of Management and Budget's (OMB) approval of a new information collection that is summarized below.

DATES: Please submit comments by August 24, 2015.

ADDRESSES: You may submit comments identified by DOT Docket ID Number 2015-0013 by any of the following methods:

Web site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue SE., Washington, DC 20590.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Michael Nesbitt (michael.nesbitt@dot.gov), 202-366-1179, Office of Infrastructure, Federal Highway Administration, Department of Transportation, 1200 New Jersey Avenue SE., Washington, DC 20590. Office hours are from 8 a.m. to 5 p.m., Monday through Friday, except Federal holidays.

SUPPLEMENTARY INFORMATION:

Title: National Transportation Performance Management (TPM) Implementation Review, TPM Toolbox, and TPM State-of-Practice Questionnaires.

Type of request: New information collection requirement.

Background: Moving Ahead for Progress in the 21st Century Act (MAP-21) transformed the Federal-aid highway program by establishing new requirements for transportation performance management to ensure the most efficient investment of Federal transportation funds. Transportation performance management increases the accountability and transparency of the Federal-aid highway program and provides for a framework to support improved investment decision making through a focus on performance outcomes for key national transportation goals. State transportation agencies (STAs) will be expected to use the information and data generated as a result of the new regulations to make better informed transportation planning and programming decisions. The new performance aspects of the Federal-aid program will allow FHWA to better communicate a national performance story and to more reliably assess the impacts of Federal funding investments.

Overview: Under the “National Transportation Performance Management (TPM) Implementation Review, TPM State-of-Practice Questionnaires, and TPM Toolbox ” information collection request, the FHWA will collect information on the current state of the practice, data, methods, and systems used by state, metropolitan, regional, local, and/or tribal transportation entities to support their TPM processes in accordance with MAP-21 §§ 1106, 1112-1113, 1201-1203; 23 U.S.C. 119, 134-135, and 148-150. This information will also be used to develop and deliver existing and future Federal Highway Programs through successful partnerships, value-added stewardship, and risk-based oversight. Underpinning this effort will be a robust focus on improving FHWA and its partners' capacity to implement performance provisions. The information collected from these activities will translate into having a better skilled workforce, effective supporting systems, and clearly articulated programs that are optimally positioned and equipped to deliver the FHWA's mission. In general, the components of the “National TPM Implementation Review, TPM State-of-Practice Questionnaires, and TPM Toolbox” will involve questions related to:

1. TPM and MAP-21 related implementation efforts, programs, and activities,

2. Needs for guidance and policy concerning MAP-21's TPM related provisions;

3. TPM capacity building needs;

4. Effectiveness implementing performance based planning and programming and TPM processes.

The most consequential activity covered by the ICR is the “National TPM Implementation Review,” which will be conducted twice. The first National TPM Implementation Review is scheduled to be administered in the spring of 2016 and will establish a baseline to assess:

1. FHWA and its partners progress implementing MAP-21 performance provisions and related TPM best practices; and

2. The effectiveness of performance-based planning and programming processes and transportation performance management.

The second National TPM Implementation Review will be conducted several years later and will be used to assess FHWA and its partners' progress addressing any gaps or issues identified during the first review.

The findings from the first review will be used in a pair of statutory reports to Congress due in 2017 on the effectiveness of performance-based planning and programming processes and transportation performance management (23 U.S.C. 119, 134(l)(2)-135(h)(2)). The findings from the second review will be used in a subsequent follow-up report. It is important to note that this is not a compliance review. The overall focus of the National TPM Implementation Review is on the TPM and performance-based planning processes used by STAs and Metropolitan Planning Organizations (MPOs), not the outcomes of those processes. Due to the sensitivity of the collected information, FHWA will only report aggregated information to the general public and in its report to Congress. However, information from individual reviews will be made readily available to the respective respondent (i.e., STA, MPOs, etc), FHWA staff for internal uses, and a limited number of FHWA partners and associations who sign nondisclosure agreements.

In addition to the more formal National TPM Implementation Review, FHWA will conduct yearly informal voluntary TPM State-of-Practice questionnaires related to TPM policy and guidance, technical assistance, and capacity needs. These voluntary information collection actions will occur 1 to 2 times per year. The information will be collected from state, metropolitan, regional, local, and/or tribal transportation agencies via internet-based questionnaires or web applications and used to help FHWA:

• Strategically plan to meet ever growing demand for TPM technical assistance needs;

• Develop and refine TPM policy and guidance based on stakeholder feedback;

• Channel resources to meet capacity development and training needs; and

• Identify and prioritize TPM research needs.

Lastly, as part of FHWA's ongoing technical assistance efforts, a TPM Toolbox is being created to help FHWA's partners self-assess and benchmark their TPM implementation progress, capabilities, and gaps. The TPM Toolbox also helps FHWA streamline the integration and administration of all the efforts described above. To maximize the effectiveness and efficiency of the TPM Toolbox, FHWA will collect business contact and organizational demographic (size of organization, location, etc.) information along with the responses submitted as part of the TPM Toolbox's self-assessment applications.

Respondents: The 975 respondents estimate is based on soliciting input from all 52 state transportation agencies, 409 MPOS, and a sampling of transit agencies, RPOs, and other transportation entities.

Frequency: Each State, MPO, RPO, and a sampling of transit agencies will be solicited to provide information up to 4 times per year. This is dependent on whether information is being collected on the National Transportation Performance Management Implementation Review and the frequency of state-of-practice questionnaires.

Estimated Average Burden per Response: Up to 2 hours per response or 8 hours per year for all responses (4 questionnaires per year times up to 2 hours per questionnaire).

Estimated Total Annual Burden Hours: The total annual burden for all respondents is estimated to be 7,800 burden hours per year (8 burden hours per respondent times 975 respondents). The annual number of burden hours (professional and clerical staff) per respondent to answer questions on the current state of the practice, data, methods, and systems used by state, metropolitan, regional, local, and/or tribal transportation entities to support their required TPM processes is estimated to be up to 8 (4 questionnaires per year times up to 2 hours per questionnaire). This annual burden per respondent consists of the staff time of each respondent. The burden was determined as follows:

Professional Staff Time:

1.5 hour/respondent × 975 respondents × 4 questionnaires per year = 5850 hours

Clerical staff time:

0.5 hours/respondent × 975 respondents × 4 questionnaires per year = 1,950 hours

The total annual associated salary cost to respondents is estimated to be $257,400 based on an average salary of $38 per hour (approximately $79,000 per year) for professional staff and $18 per hour (approximately $37,000 year) for clerical staff.

Professional staff cost for preparation of work programs:

5,850 hours × $38 per hour = $222,300

Clerical staff time:

1,950 hours × $18 per hour = $35,100

Total annual costs:

Subtotal Direct Salaries $257,400

Overhead/fringe benefits at 33%: $84,942

Total annual respondent cost: $342,342

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: June 15, 2015.
Michael Howell,
Information Collection Officer.

[FR Doc. 2015-15371 Filed 6-22-15; 8:45 am]

BILLING CODE 4910-22-P